POSTAL SERVICE

39 CFR Part 111

Proposed Domestic Mail Manual Changes To Clarify the Method Used To Determine Postal Zones

AGENCY: Postal Service.

ACTION: Proposed Rule.

SUMMARY: The Postal Service is proposing to amend Domestic Mail Manual (DMM) G030, Postal Zones, to clarify the language describing the method used to determine postal zones. This change also removes redundant eligibility information in G030 that is currently in the DMM eligibility standards for Parcel Post and Periodicals mail. Effective with the implementation date of the Docket No. R2001-1 omnibus rate case, the Postal Service will update zone chart coordinates for all 3-digit ZIP Code prefixes in L005, Column A, that do not match the corresponding coordinates for L005, Column B.

DATES: Comments must be received on or before April 8, 2002.

ADDRESSES: Mail written comments to Manager, National Customer Support Center (NCSC), ATTN: J. Stefaniak, 1735 North Lynn Street, Room 3025, Arlington VA 22201-6038 or submit via fax to 703-292-4058, ATTN: J. Stefaniak. Copies of all written comments will be available for inspection and photocopying between 9 a.m. and 4 p.m., Monday through Friday, in the Library, Postal Service Headquarters, 475 L'Enfant Plaza SW., Washington, DC 20260-1540.

FOR FURTHER INFORMATION CONTACT: Angie White, 901-681-4525.

SUPPLEMENTARY INFORMATION: The Postal Service is proposing to clarify the language in DMM G030 which describes the method used to determine postal zones 1 through 8. This clarification does not propose to change the method used to calculate postal zones.

Postal rates for certain subclasses of mail are based on the weight of the individual piece and the distance that the piece travels from origin to destination (i.e., the number of postal zones crossed). For the administration of the system of postal zones, the sphere of the earth is geometrically divided into units of area 30 minutes square, identical with a quarter of the area formed by the intersecting parallels of latitude and meridians of longitude. Postal zones are based on the distance between these units of area. The distance is measured from the center of the unit of area containing the sectional center facility (SCF) serving the origin post office to the SCF serving the destination post office. The SCF's serving the origin and destination post offices are determined by the appropriate SCF in L005, Column B.

Effective with the implementation of the Docket No. R2001-1 omnibus rate case, the longitude and latitude of 130 3-digit ZIP Code prefixes for SCF coordinates in L005, Column A, will be updated to reflect the parent SCF in L005, Column B. This update will align the 3-digit ZIP Code prefixes with current postal processing and distribution networks.

DMM G030.3.0 will be deleted because it repeats eligibility information for intra-BMC, inter-BMC, SCF, and delivery unit rates contained in other portions of the DMM.

The Postal Service Official National Zone Chart Data Program is administered from the National Customer Support Center (NCSC) in Memphis, TN. Single-page zone charts for originating mail are available online through Postal Explorer at http://pe.usps.gov. Zone chart data for the entire nation can be purchased in two formats: printed (about 500 pages) and electronic (3.5-inch diskettes). For more information, or to purchase zone charts, call the Zone Chart Program Administrator at 800-238-3150. The single-page zone chart program available online through Postal Explorer has been updated with a link to the updated zone chart data that would be effective, if this proposed rule is adopted, with the implementation date of the Docket No. R2001-1 omnibus rate case.

Comments are solicited on the proposed implementation date for this revision. The method of determining postal zones and the data coordinates for the SCFs are outside the scope of this rulemaking.

Although exempt from the notice and comment requirements of the Administrative Procedures Act (5 U.S.C. 553(b), (c)) regarding proposed rulemaking by 39 U.S.C. 410(a), the Postal Service invites comments on the following proposed revisions of the DMM, incorporated by reference into the Code of Federal Regulations. (See 39 CFR part 111.)

List of Subjects in 39 CFR Part 111

Postal Service.

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Amend the following sections of the Domestic Mail Manual (DMM) as set forth below:

G General Information

G000 The USPS and Mailing Standards

* * * * *

G030 Postal Zones

Summary

[Amend Summary text by removing the references to BMCs, SCF, and delivery unit zones to read as follows:]

G030 describes how postal zones are used to compute postage for zoned mail. It also defines local and nonlocal zones.

1.0 BASIC INFORMATION

[Amend 1.0 by removing the last sentence and adding the following two sentences to read as follows:]

* * * The distance is measured from the center of the unit of area containing the SCF serving the origin post office to the SCF serving the destination post office. The SCFs serving the origin and destination post offices are determined by using L005, Column B.

* * * * *

2.0 SPECIFIC ZONES

* * * * *

2.2 Nonlocal Zones

Nonlocal zones are defined as follows:

[Amend item 2.2a to read as follows:]

a. The zone 1 rate applies to pieces not eligible for the local zone in 2.1 that are mailed between two post offices with the same 3-digit ZIP Code prefix identified in L005, Column A. Zone 1 includes all units of area outside the local zone lying in whole or in part within a radius of about 50 miles from the center of a given unit of area.

[Remove 3.0 in its entirety.]

* * * * *

An appropriate amendment to 39 CFR part 111 to reflect these changes will be published if the proposal is adopted.

Stanley F. Mires,
Chief Counsel, Legislative.

[FR Doc. 02-5486 Filed 3-6-02; 8:45 am]

BILLING CODE 7710-12-P